DEPARTMENT OF TRANSPORTATION

Coast Guard

33 CFR Part 165

[CGD09-02-523]

RIN 2115-AA97

Security Zones; Captain of the Port Detroit Zone, Selfridge Air National Guard Base, Lake St. Clair

AGENCY: Coast Guard, DOT.

ACTION: Final rule.

SUMMARY: The Coast Guard is removing the permanent security zone on the navigable waters of Lake St. Clair around the Selfridge Air National Guard Base. This security zone is no longer necessary to protect the Selfridge Army National Guard Base from possible acts of terrorism. This security zone will no longer restrict vessel traffic from areas of Lake St. Clair in the vicinity of Selfridge Army National Guard Base.

DATES: This rule is effective on October 30, 2002.

ADDRESSES: Comments and material received from the public, as well as documents indicated in this preamble as being available in the docket, are part of docket CGD09-02-523 and are available for inspection or copying at U.S. Coast Guard Marine Safety Office, 110 Mt. Elliott Ave, Detroit, Michigan between 8 a.m. and 4 p.m., Monday through Friday, except Federal Holidays. The telephone number is (313) 568-9580.

FOR FURTHER INFORMATION CONTACT: LTJG Brandon Sullivan, U.S. Coast Guard Marine Safety Office Detroit, at (313) 568-9580.

SUPPLEMENTARY INFORMATION:

Regulatory Information

On April 11, 2002, we published a notice of proposed rulemaking (NPRM) entitled “Security Zone; Captain of the Port Detroit Zone, Selfridge Army National Guard Base, Lake St. Clair” in the Federal Register (67 FR 17667). Following that on June 7, 2002, we published a final rule with the same title in the Federal Register (67 FR 39294). We also published a correction to the final rule with same title in the Federal Register updating the section numbers (67 FR 47299, July 18, 2002). We received no letters commenting on either the proposed, final, or correction to the final rule. No public hearing was requested, and none was held.

We did not publish a notice of proposed rulemaking (NPRM) for this regulation. Under 5 U.S.C. 553(b)(B), the Coast Guard finds that good cause exists for not publishing an NPRM, and, under 5 U.S.C. 553 (d)(3), good cause exists for making this rule effective less than 30 days after publication in the Federal Register. In response to the terrorist's attacks on September 11, 2001, the Coast Guard implemented security zones around critical facilities throughout the U.S. One such facility was the Selfridge Army National Guard Base. This security zone was established at the request of Commander, Selfridge Air National Guard Base. Due to recent improvements and additions to base security, Commander, Selfridge Air National Guard Base has indicated that the security zone is no longer necessary. As such, the Coast Guard is removing this security zone and thereby reducing the restriction placed on the public of not having access to this portion of Lake St. Clair.

Background and Purpose

On September 11, 2001, the United States was the target of coordinated attacks by international terrorists resulting in catastrophic loss of life, the destruction of the World Trade Center, and significant damage to the Pentagon. National security and intelligence officials warn that future terrorists attacks are likely. To protect from such, we published a NPRM followed by a final rule to establish a permanent security zone off the waters of Selfridge Army National Guard Base in Harrison Township, Michigan.

This security zone was believed to be necessary to ensure the protection of the public, facilities, and the surrounding area from possible sabotage or other subversive acts. All persons other than those approved by the Captain of the Port Detroit, or his authorized representative, were prohibited from entering or moving within this zone. In addition to publication in the Federal Register, the public was made aware of the existence of this security zone, exact location and the restrictions involved via the Broadcast Notice to Mariners.

Due to recent improvements and enhancements to base security at Selfridge Air National Guard base, the Commanding Officer of that base no longer believes the security zone is necessary. The security zone provided the necessary barrier while the base improved its security, but now that such improvements have been completed, adequate security can be provided by security personnel. As the request by the U.S. Army Garrison Commander was the primary factor for establishment of the security zone and this justification no longer exists, Captain of the Port Detroit is removing this security zone. The U.S. Army Garrison Commander concurs with the COTP decision.

Discussion of Final Rule

This final rule will remove the security zone from the waters of Lake St. Clair off Selfridge National Guard Base.

Regulatory Evaluation

This Final Rule is not a significant regulatory action under section 3(f) of Executive Order 12866 and does not require an assessment of potential costs and benefits under section 6(a)(3) of that order. The Office of Management and Budget has exempted it from review under that order. It is not significant under the regulatory policies and procedures of the Department of Transportation (DOT) (44 FR 11040, February 26, 1979). The Coast Guard expects the economic impact of this proposal to be so minimal that a full Regulatory Evaluation under paragraph 10(e) of the regulatory policies and procedures of DOT is unnecessary.

Small Entities

Under the Regulatory Flexibility Act (5 U.S.C. 601-612), we have considered whether this final rule would have a significant economic impact on a substantial number of small entities. The term “small entities” comprises small businesses, not-for-profit organizations that are independently owned and operated and are not dominant in their fields, and governmental jurisdictions with populations of less than 50,000.

The Coast Guard certifies under 5 U.S.C. 605(b) that this final rule would not have a significant economic impact on a substantial number of small entities.

Assistance for Small Entities

Under section 213(a) of the Small Business Regulatory Enforcement Fairness Act of 1996 (Public Law 104-121), we want to assist small entities in understanding this final rule so that they can better evaluate its effects on them and participate in the rulemaking. If the rule would affect your small business, organization, or governmental jurisdiction and you have questions concerning its provisions or options for compliance, please contact the office listed in ADDRESSES in this preamble. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This final rule would call for no new collection of information under the Paperwork Reduction Act of 1995 (44 U.S.C. 3501-3520.).

Federalism

We have analyzed this final rule under Executive Order 13132, Federalism, and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this final rule would not result in such an expenditure, we do discuss the effects of this rule elsewhere in this preamble.

Taking of Private Property

This final rule would not affect a taking of private property or otherwise have taking implications under Executive Order 12630, Governmental Actions and Interference with Constitutionally Protected Property Rights.

Civil Justice Reform

This final rule meets applicable standards in sections 3(a) and 3(b)(2) of Executive Order 12988, Civil Justice Reform, to minimize litigation, eliminate ambiguity, and reduce burden.

Protection of Children

We have analyzed this final rule under Executive Order 13045, Protection of Children from Environmental Health Risks and Safety Risks. This rule is not an economically significant rule and would not create an environmental risk to health or risk to safety that might disproportionately affect children.

Indian Tribal Governments

This final rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this final rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

Environment

We have considered the environmental impact of this final rule and concluded that, under figure 2-1, paragraph (34) (g), of Commandant Instruction M16475.lC, this rule is categorically excluded from further environmental documentation.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: Authority: 33 U.S.C. 1231; 50 U.S.C. 191; 33 CFR 1.05-1(g), 6.04-1, 6.04-6, and 160.5; 49 CFR 1.46.

§ 165.908 [Removed]

2. Remove § 165.908.

Dated: October 21, 2002.
P.G. Gerrity,
Commander, U.S. Coast Guard, Captain of the Port Detroit.

[FR Doc. 02-27609 Filed 10-29-02; 8:45 am]

BILLING CODE 4910-15-P